FEDERAL COMMUNICATIONS COMMISSION

Notice of Public Information Collection(s) Being Reviewed by the Federal Communications Commission for Extension Under Delegated Authority

November 13, 2006.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments January 29, 2007. If you anticipate that you will be submitting comments, but find it difficult to do so within the period of time allowed by this notice, you should advise the contact listed below as soon as possible.

ADDRESSES: Direct all PRA comments to Allison E. Zaleski, Office of Management and Budget (OMB), Room 10236 NEOB, Washington, DC 20503, (202) 395-6466, or via fax at 202-395-5167, or via the Internet at Allison_E._Zaleski@eop.omb.gov and to Judith-B.Herman@fcc.gov, Federal Communications Commission (FCC), Room 1-B441, 445 12th Street, SW., Washington, DC 20554. To submit your comments by e-mail send them to: PRA@fcc.gov. If you would like to obtain or view a copy of this information collection after the 60 day comment period, you may do so by visiting the FCC PRA Web page at: http://www.fcc.gov/omd/pra.

FOR FURTHER INFORMATION CONTACT: For additional information about the information collection(s) send an e-mail to PRA@fcc.gov or contact Judith B. Herman at 202-418-0214.

SUPPLEMENTARY INFORMATION: OMB Control No.: 3060-1048.

Title: Section 1.929(c)(1), Computer Interference Contour (CIC).

Form No.: N/A.

Type of Review: Extension of a currently approved collection.

Respondents: Business or other for-profit, not-for-profit institutions, and state, local or tribal government.

Number of Respondents: 50.

Estimated Time Per Response: 2 hours.

Frequency of Response: On occasion and annual reporting requirement and recordkeeping requirement.

Nature of Response: Required to obtain or retain benefits.

Total Annual Burden: 100 hours.

Annual Cost Burden: N/A.

Privacy Act Impact Assessment: N/A.

Needs and Uses: This collection will be submitted as an extension (no change in reporting requirements) after this 60 day comment period to Office of Management and Budget (OMB) in order to obtain the full three year clearance. There is no change in respondents or burden hours. Section 1.929(c)(1) requires any increase in the composite interference contour (CIC) ¹ of a site-based licensee in the Paging and Radiotelephone Service, Rural Radiotelephone Service, or 800 MHz Specialized Mobile Radio Service is a major modification of a license that requires prior Commission approval. However, on April 28, 2003, the Commission released a Notice of Proposed Rulemaking (NPRM) in WT Docket No. 03-103 (68 FR 44003), which proposed to amend Section 1.929(c)(1) of the Commission's rules to specify that expansion of a composite interference contour (CIC) of a site-based licensee in the Paging and Radiotelephone Service—as well as the Rural Radiotelephone Service and 800 MHz Specialized Mobile Radio Service—over water on a secondary, non-interference basis should be classified as a minor (rather than major) modification of a license. Such reclassification would eliminate the filing requirements associated with these license modifications, but require site-based licensees to provide the geographic area licensee (on the same frequency) with the technical and engineering information necessary to evaluate the site-based licensee's operation over water. The purpose of this collection is to enable the geographic licensee to have technical and engineering information regarding a site-based licensee's operations over water in order to guard against unacceptable interference to its own operations(s).

¹ A CIC connects the outmost points of the intersecting interference contour for the base station in a radio system. However, an incumbent's valid CIC does not include areas surrounded by the composite interior contour that are not part of the interference contours of the incumbent's individual sites. See Revision of Parts 22 and 90 of the Commission's Rules to Facilitate Future Development of Paging System's and Implementation of Section 309(j) of the Communications Act—Competitive Bidding, Memorandum Opinion and Order on Reconsideration and Third Report and Order, 14 FCC Rcd 10030, 10055 ¶ 35 (1999).

Federal Communications Commission.
Marlene H. Dortch,
Secretary.

[FR Doc. E6-20015 Filed 11-28-06; 8:45 am]

BILLING CODE 6712-01-P